DEPARTMENT OF HEALTH AND HUMAN SERVICES

Administration for Children and Families

Proposed Information Collection Activity; Comment Request

Proposed Projects

Title: University Centers for Excellence in Developmental Disabilities Education, Research, and Service.

OMB No.: New Collection.

Description: In accordance with the Developmental Disabilities Assistance and Bill of Rights Act of 2000, University Centers are required to collect data in order to measure progress achieved in one or more areas of emphasis (child care, education and early intervention, employment, health, housing, recreation, transportation, quality assurance) through advocacy, capacity building, and systemic change activities. Progress is to be measured through (1) satisfaction of individuals with developmental disabilities with advocacy, capacity building, and systemic change activities; (2) the extent to which the advocacy, capacity building, and systemic change activities provided results through improvements; and (3) the extent to which collaboration was achieved in the areas of advocacy, capacity building, and systemic change activities.

Respondents: University Centers for Excellence in Developmental Disabilities Education, Research, and Service.

Annual Burden Estimates
Instrument | Number of respondents | Number of responses per respondent | Average burden hours per response | Total burden hours
Data Collection for Annual Report—University Centers | 61 | 1 | 80 | 4,880
Estimated Total Annual Burden Hours | 4,880

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 10, 2003.
Bob Sargis,
Reports Clearance Officer.

[FR Doc. 03-3678 Filed 2-13-03; 8:45 am]

BILLING CODE 4184-01-M